DEPARTMENT OF HEALTH AND HUMAN SERVICES

[Document Identifier: OS-0990-New]

Agency Information Collection Request; 60-Day Public Comment Request

AGENCY: Office of the Secretary, HHS.

In compliance with the requirement of section 3506(c)(2)(A) of the Paperwork Reduction Act of 1995, the Office of the Secretary (OS), Department of Health and Human Services, is publishing the following summary of a proposed information collection request for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden. To obtain copies of the supporting statement and any related forms for the proposed paperwork collections referenced above, e-mail your request, including your address, phone number, OMB number, and OS document identifier, to Sherette.funncoleman@hhs.gov, or call the Reports Clearance Office on (202) 690-6162. Written comments and recommendations for the proposed information collections must be directed to the OS Paperwork Clearance Officer at the above e-mail address within 60-days.

Proposed Project: Girls at Greater Risk for Juvenile Delinquency and HIV Prevention Program—OMB No. 0990-NEW-Office on Women's Health (OWH).

Abstract: The Office on Women's Health (OWH) is seeking a new clearance to conduct a three year data collection associated with the evaluation of the “Girls at Greater Risk for Juvenile Delinquency and HIV Prevention Program”. The evaluation is designed to determine best practices and gender-responsive strategies for at-risk girls and adolescents between the ages of nine and 17 years. Data will be collected from program participants, parents of program participants, program staff (i.e. program directors and program staff), program partners and community residents and will be submitted to OWH on a quarterly basis. Primarily private non-profit organizations and girls and adolescents participating in the program and their parents will be affected by this data collection.

Estimated Annualized Burden Table
Forms (If necessary) | Type of respondent | Number of respondents | Number of responses per respondent | Average burden hours per response | Total burden hours
Prevention Education Questionnaire | Program participant | 750 | 2 | 2 | 3,000
Focus group | Program participant | 120 | 1 | 90/60 | 180
Focus group | Parent of Program participant | 120 | 1 | 90/60 | 180
Interview | Program Director | 10 | 2 | 90/60 | 30
| Program Staff | 10 | 150 | 30/60 | 750
Interview | Program Staff | 10 | 2 | 45/60 | 15
Interview | Program Partner | 60 | 1 | 45/60 | 45
Focus group | Program Partner | 120 | 1 | 90/60 | 180
Community Event Survey | Community Resident | 250 | 1 | 5/60 | 21
Total |  |  |  |  | 4,401

Seleda Perryman,
Office of the Secretary, Paperwork Reduction Act Reports Clearance Officer.

[FR Doc. 2010-6902 Filed 3-26-10; 8:45 am]

BILLING CODE 4150-33-P